FEDERAL RETIREMENT THRIFT INVESTMENT

Board Member Meeting

June 22, 2020, 10:00 a.m.—Telephonic

Open Session

1. Approval of the May 13th and 27th 2020 Board Meeting Minutes

2. Monthly Reports

(a) Participant Activity Report

(b) Investment Performance

(c) Legislative Report

3. Quarterly Report

(d) Vendor Risk Management

4. 5-Year L Fund Update

5. Internal Audit Update

Executive Session

Information covered under 5 U.S.C. 552b(c)(4).

Contact Person For More Information: Kimberly Weaver, Director, Office of External Affairs, (202) 942-1640.

SUPPLEMENTARY INFORMATION: Dial-in (listen only) information: Number: 1-877-446-3914, Code: 8127023.

Dated: June 9, 2020.
Megan Grumbine,
General Counsel, Federal Retirement Thrift Investment Board.

[FR Doc. 2020-12908 Filed 6-15-20; 8:45 am]

BILLING CODE 6760-01-P